DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Port Manatee Railroad

[Waiver Petition Docket Number FRA-2010-0091]

The Port Manatee Railroad (PMRR) seeks a waiver of relief from the statutory requirements of 49 U.S.C. 21103(a)(4), whereby train employees have 48 or 72-hour off-duty periods following the initiation of on-duty periods of either 6 or 7 consecutive days. PMRR is a marine terminal-switching railway operated on Manatee County Authority property at Port Manatee in Palmetto, Florida. PMRR provides support in vessel loading/discharge cargo operations and is not part of the General Railroad system of transportation. To avoid substantial operational and financial burdens and, at the same time, maintain a level of appropriate service to vessels while ensuring a safe working environment for its employees, a waiver request was submitted to FRA for approval.

PMRR currently has 6 train and engine service employees who typically work three assignments as follows: (1) A regular shift between 8 a.m. and 5 p.m.; (2) an overtime shift between 8 a.m. and 8 p.m.; and (3) a split shift that includes 8 a.m. to noon, an 8 hour break, followed by 8 p.m. to 8 a.m. PMRR reports that its employees are not unionized, and with its waiver request, the railroad filed documentation indicating that its employees unanimously support the request for relief. PMRR's entire petition may be viewed at http://www.regulations.gov under the docket number listed above.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0091) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on September 27, 2010.
Robert C. Lauby,
Deputy Associate Administrator for Regulatory and Legislative Operations.

[FR Doc. 2010-24704 Filed 9-30-10; 8:45 am]

BILLING CODE 4910-06-P